DEPARTMENT OF THE TREASURY

Office of Thrift Supervision

[No. OTS-2008-0009]

OTS Minority Depository Institutions Advisory Committee

AGENCY: Office of Thrift Supervision, Treasury (OTS).

ACTION: Notice of intent to establish; request for nominations.

SUMMARY: The Director of the Office of Thrift Supervision has determined that the establishment of a Minority Depository Institutions Advisory Committee is necessary and in the public interest in order to preserve minority institutions and encourage their creation. OTS is seeking nominations of individuals to be considered for selection as Committee members and the names of professional and public interest groups that should be represented on the Committee.

DATES: Nomination must be received on or before August 19, 2008.

ADDRESSES: Nominations should be sent to nominations@ots.treas.gov or mailed to: Montrice Godard Yakimov, Managing Director, Compliance and Consumer Protection, Office of Thrift Supervision, 1700 G Street, NW., Washington, DC 20552.

FOR FURTHER INFORMATION CONTACT: Cassandra McConnell, Director, Consumer and Community Affairs, Office of Thrift Supervision, 1700 G Street, NW., Washington, DC 20552; (202) 906-5750.

SUPPLEMENTARY INFORMATION: The Director of the Office of Thrift Supervision (OTS) has determined that the establishment of the Minority Depository Institutions Advisory Committee is necessary and in the public interest. The Committee is established in accordance with the Federal Advisory Committee Act, 5 U.S.C. App. 2, § 9 (c). The Committee will advise OTS on ways to meet the goals established by section 308 of the Financial Institutions Reform, Recovery, and Enforcement Act of 1989 (FIRREA), Public Law 101-73, Title III, 103 Stat. 353, 12 U.S.C.A. § 1463 note. The goals of section 308 are to preserve the present number of minority institutions, preserve the minority character of minority-owned institutions in cases involving mergers or acquisitions, provide technical assistance, and encourage the creation of new minority institutions.The Minority Depository Institutions Advisory Committee will help OTS meet those goals by providing informed advice and recommendations regarding a range of issues involving minority depository institutions.

Nominations should describe and document the proposed member's qualifications for Committee membership. In addition to individual nominations, OTS is soliciting the names of professional and public interest groups that should have representatives participating on the Committee. Committee members are not compensated for their time, but are eligible for reimbursement of travel expenses in accordance with applicable Federal law and regulations.

Dated: July 23, 2008.
By the Office of Thrift Supervision.
Montrice Godard Yakimov,
Managing Director, Compliance and Consumer Protection.

[FR Doc. E8-17370 Filed 7-28-08; 8:45 am]

BILLING CODE 6720-01-P